DEPARTMENT OF ENERGY

Federal Energy Regulatory Commission

Sunshine Act Meeting

February 2, 1000.

The following Notice of Meeting is published pursuant to Section 3(A) of the government in the Sunshine Act (Pub. L. No. 94-409), 5 U.S.C. 552B:

AGENCY HOLDING MEETING: Federal Energy Regulatory Commission.

DATE AND TIME: February 9, 2000,

10: A.M.

PLACE: Room 2C 888 First Street, N.E., Washington, DC 20426.

STATUS: Open.

MATTERS TO BE CONSIDERED: Agenda.

NOTE —Items listed on the agenda may be deleted without further notice.

CONTACT PERSON FOR MORE INFORMATION David P. Boergers, Secretary, Telephone (202) 208-0400, for a recording listing items, stricken from or added to the meeting, call (202) 208-1627.

This is a list of matters to be considered by the Commission. It does not include a listing of all papers relevant to the items on the agenda; however, all public documents may be examined in the Reference and Information Center.

Consent Agenda—Hydro, 734th—Meeting February 9, 2000, Regular Meeting (10:00 a.m.)

CAH-1.

Docket# P-2170, 011, Chugach Electric Association, Inc.

CAH-2.

Docket# P-13, 010, Niagara Mohawk Power Corporation and Erie Boulevard Hydropower, L.P.

Other#s P-2047, 006, Niagara Mohawk Power Corporation and Erie Boulevard Hydropower, L.P.

P-2060, 007, Niagara Mohawk Power Corporation and Erie Boulevard Hydropower, L.P.

P-2084, 022, Niagara Mohawk Power Corporation and Erie Boulevard Hydropower, L.P.

P-2318, 006, Niagara Mohawk Power Corporation and Erie Boulevard Hydropower, L.P.

P-2320, 017, Niagara Mohawk Power Corporation and Erie Boulevard Hydropower, L.P.

P-2330, 036, Niagara Mohawk Power Corporation and Erie Boulevard Hydropower, L.P.

P-2474, 008, Niagara Mohawk Power Corporation and Erie Boulevard Hydropower, L.P.

P-2482, 024, Niagara Mohawk Power Corporation and Erie Boulevard Hydropower, L.P.

P-2539, 010, Niagara Mohawk Power Corporation and Erie Boulevard Hydropower, L.P.

P-2554, 007, Niagara Mohawk Power Corporation and Erie Boulevard Hydropower, L.P.

P-2569, 047, Niagara Mohawk Power Corporation and Erie Boulevard Hydropower, L.P.

P-2616, 012, Niagara Mohawk Power Corporation and Erie Boulevard Hydropower, L.P.

P-2641, 004, Niagara Mohawk Power Corporation and Erie Boulevard Hydropower, L.P.

P-2645, 080, Niagara Mohawk Power Corporation and Erie Boulevard Hydropower, L.P.

P-2696, 013, Niagara Mohawk Power Corporation and Erie Boulevard Hydropower, L.P.

P-2701, 032, Niagara Mohawk Power Corporation and Erie Boulevard Hydropower, L.P.

P-2713, 045, Niagara Mohawk Power Corporation and Erie Boulevard Hydropower, L.P.

P-2837, 008, Niagara Mohawk Power Corporation and Erie Boulevard Hydropower, L.P.

P-3452, 008, Niagara Mohawk Power Corporation and Erie Boulevard Hydropower, L.P.

P-5984, 028, Niagara Mohawk Power Corporation and Erie Boulevard Hydropower, L.P.

P-7320, 012, Niagara Mohawk Power Corporation and Erie Boulevard Hydropower, L.P.

P-7321, 009, Niagara Mohawk Power Corporation and Erie Boulevard Hydropower, L.P.

P-7387, 008, Niagara Mohawk Power Corporation and Erie Boulevard Hydropower, L.P.

P-7518, 003, Niagara Mohawk Power Corporation and Erie Boulevard Hydropower, L.P.

P-9222, 018, Niagara Mohawk Power Corporation and Erie Boulevard Hydropower, L.P.

P-10461, 005, Niagara Mohawk Power Corporation and Erie Boulevard Hydropower, L.P.

P-10462, 005, Niagara Mohawk Power Corporation and Erie Boulevard Hydropower, L.P.

P-11408, 022, Niagara Mohawk Power Corporation and Erie Boulevard Hydropower, L.P.

CAH-3.

Docket# P-4797, 056, Cogeneration, Inc.

Consent Agenda—Electric

CAE-1.

Docket# ER00-798, 000, New York Independent System Operator, Inc., Central Hudson Gas & Electric Corporation, Consolidated Edison Company of New York, Inc., New York State Electric & Gas Corporation, Niagara Mohawk Power Corporation, Orange and Rockland Utilities, Inc. and Rochester Gas and Electric Corporation

Other#s ER99-4235, 000, New York Independent System Operator, Inc., Central Hudson Gas & Electric Corporation, Consolidated Edison Company of New York, Inc., New York State Electric & Gas Corporation, Niagara Mohawk Power Corporation, Orange and Rockland Utilities, Inc. and Rochester Gas and Electric Corporation

CAE-2.

Docket# ER00-870, 000, PJM Interconnection, L.L.C.

CAE-3.

Docket# ER00-845, 000, Southern California Edison Company

Other#s ER00-860, 000, San Diego Gas & Electric Company

ER00-851, 000, Pacific Gas and Electric Company

CAE-4.

Docket# ER00-839, 000, Southwest Power Pool, Inc.

CAE-5.

Docket# ER00-586, 000, Madison Gas & Electric Company

Other#s ER00-816, 000, Ameren Services Company

ER00-840, 000, Tenaska Alabama Partners, L.P.

ER00-891, 000, Delano Energy Company, Inc.

ER00-895, 000, Onodago Cogeneration Limited Partnership

CAE-6.

Docket# ER00-886, 000, New York State Reliability Council

CAE-7.

Docket# ER99-3886, 001, Commonwealth Edison Company and Commonwealth Edison Company of Indiana

CAE-8.

Docket# ER00-879, 000, California Independent System Operator Corporation

CAE-9.

Docket# ER00-749, 000, ISO New England, Inc.

CAE-10.

Docket# ER00-894, 000, Geysers Power Company, LLC

CAE-11.

Docket# ER00-799, 000, Commonwealth Edison Company and Commonwealth Edison Company of Indiana

CAE-12.

Docket# ER97-412, 000, Firstenergy Corporation

Other#s ER97-412, 001, Firstenergy Corporation

ER97-413, 000, Firstenergy Corporation

ER98-1932, 000, Firstenergy Corporation

CAE-13.

Docket# ER00-898, 000, Amergen Energy Company, L.L.C.

Other#s ER99-754, 000, Amergen Energy Company, L.L.C.

EL00-30, 000, Amergen Energy Company, L.L.C.

ER00-899, 000, Jersey Central Power & Light Company

CAE-14.

Docket# OA97-523, 000, Upper Peninsula Power Company

Other#s OA97-676, 000, Upper Peninsula Power Company

CAE-15.

Docket# ER00-298, 001, PJM Interconnection, L.L.C.

CAE-16. Omitted

CAE-17. Omitted

CAE-18.

Docket# EL99-17, 000, The Ameren Companies

Other#s EL98-1, 000, The Ameren Companies

CAE-19.

Docket# EG00-54, 001, Tenaska Alabama Partners, L.P.

Consent Agenda—Gas and Oil

CAG-1.

Docket# RP00-162, 000, Panhandle Eastern Pipe Line Company

CAG-2.

Docket# RP00-163 000, Kern River Gas Transmission Company

RP00-163, 001, Kern River Gas Transmission Company

CAG-3.

Docket# RP00-164, 000, Northern Natural Gas Company

CAG-4.

Docket# RP00-166, 000, CNG Transmission Corporation

Other#s RP00-74, 001, CNG Transmission Corporation

RP00- 74, 002, CNG Transmission Corporation

CAG-5.

Docket# PR00-4, 000, PG&E Gas Transmission TECO, Inc.

CAG-6.

Docket# RP93-5, 034, Northwest Pipeline Corporation

Other#s RP93-96, 013, Northwest Pipeline Corporation

CAG-7.

Docket# TM00-1-30, 001, Trunkline Gas Company

CAG-8.

OMITTED

CAG-9.

Docket# RP94-72, 011, Iroquois Gas Transmission System, L.P.

Other#s RP94-72, 009, Iroquois Gas Transmission System, L.P.

FA92-59, 007, Iroquois Gas Transmission System, L.P.

RP97-126, 015, Iroquois Gas Transmission System, L.P.

RP97-126, 000, Iroquois Gas Transmission System, L.P.

CAG-10.

Docket# CP88-391, 024, Transcontinental Gas Pipe Line Corporation

Other#s RP93-162, 009, Transcontinental Gas Pipe Line Corporation

CAG-11.

Docket# PR95-18, 001, Duke Energy Intrastate Network, L.L.C.

CAG-12.

Docket# OR99-4, 001, Sinclair Oil Corporation v. Platte Pipe Line Company

CAG-13.

Docket# RP99-274, 003, Kern River Gas Transmission Company

CAG-14.

Docket# RP99-496, 002, Southern Natural Gas Company

CAG-15.

Docket# OR89-2, 000, Trans Alaska Pipeline System

CAG-16.

Docket# MG00-1, 000, Clear Creek Storage Company, L.L.C.

CAG-17.

Docket# CP99-322, 000, El Paso Natural Gas Company

Other#s CP99-323, 000, El Paso Natural Gas Company

CAG-18.

Docket# CP96-53, 000, NE Hub Partners, L.P.

Other# s CP96-53, 006, NE Hub Partners, L.P.

CP96-53, 009, NE Hub Partners, L.P.

CP96-53, 010, NE Hub Partners, L.P.

CAG-19.

Docket# CP96-610, 003, Granite State Gas Transmission, Inc

Other#s CP99-238, 000, Granite State Gas Transmission, Inc.

CAG-20.

Docket# PL99-3, 001, Certification of New Interstate Natural Gas Pipeline Facilities

CAG-21.

Docket# RM-5, 000, Optional Certificate and Abandonment Procedures for Applications for New Service Under Section 7 of the Natural Gas Act

Hydro Agenda

H-1. Reserved

Electric Agenda

H-1. Reserved

Oil and Gas Agenda

I. Pipeline Rate Matters

PR-1A.

Docket# RM98-10, 000, Regulation of Short-Term Natural Gas Transportation Services

Other#s RM98-12, 000, Transportation Services Final rule

PR-1B.

Docket# RM96-14, 003, Secondary Market Transactions on Interstate Natural Gas Pipelines

Other#s RM94-10, 000, Petition of United Distribution Companies for Rulemaking Regarding The Secondary Market

RM96-7, 000, Regulation of Negotiated Transportation Services of Natural Gas Pipelines

RM96-352, 002, Transwestern Pipeline Company, Pacific Gas and Electric Company and Southern California Gas Company

RP96-353, 001, National Fuel Gas Distribution Company

RP96-355, 001, Columbia Gulf Trnsmission Corporation

RP96-356, 001, Columbia Gas Transmission Company

RP96-360, 001, Transcontinental Gas Pipe Line Corporation

RP96-368, 001, Washington Gas Light Company

RP96-369, 001, Brooklyn Union Gas Company

RP96-370, 001, Kern River Gas Transmission Company

RP96-371, 001, Central Hudson Gas Electric Corporation

RP96-372, 001, Mountaineer Gas Company

RP96-373, 001, Boston Gas Company

RP96-379, 001, Arizona Public Service Company

RP96-382, 001, Orange and Rockland Utilities, Inc.

RM98-11, 000, Rate Design for Interstate Natural Gas Pipelines Order on Proceedings

II. Pipeline Certificate

PC-Reserved

David P. Boergers,
Secretary.

[FR Doc. 00-2753 Filed 2-3-00; 10:57 am]

BILLING CODE 6717-01-M